NUCLEAR REGULATORY COMMISSION

10 CFR Part 72

RIN 3150-AG83

List of Approved Spent Fuel Storage Casks: NAC-UMS Revision; Confirmation of Effective Date

AGENCY: Nuclear Regulatory Commission.

ACTION: Direct final rule; confirmation of effective date.

SUMMARY: The Nuclear Regulatory Commission (NRC) is confirming the effective date of December 31, 2001, for the direct final rule that appeared in the Federal Register of October 16, 2001 (66 FR 52486). This direct final rule amended the NRC's regulations by revising the NAC-UMS Universal Storage System listing within the list of approved spent fuel storage casks to include Amendment No. 2 to Certificate of Compliance No. 1015. This document confirms the effective date.

DATES: The effective date of December 31, 2001, is confirmed for this direct final rule.

ADDRESSES: Documents related to this rulemaking, including comments received, may be examined at the NRC Public Document Room, 11555 Rockville Pike, Rockville, MD. These same documents may also be viewed and downloaded electronically via the rulemaking Web site (http://ruleforum.llnl.gov). For information about the interactive rulemaking Web site, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On October 16, 2001 (66 FR 52486), the NRC published in the Federal Register a direct final rule amending its regulations in 10 CFR part 72 by revising the NAC-UMS Universal Storage System listing within the list of approved spent fuel storage casks to include Amendment No. 2 to Certificate of Compliance No. 1015. Amendment No. 2 modifies the present cask system design to add miscellaneous spent fuel related components to the approved contents list for the NAC-UMS Universal Storage System and change the required actions in response to a failure of the cask heat removal system. Several other minor administrative changes were made and are discussed in Section 12 of the Safety Evaluation Report. Also, specific changes to were made to Technical Specifications that permit the storage of these components and the other requested changes. Conditions 1b and 6 of the Certificate of Compliance were also changed. In the direct final rule, NRC stated that if no significant adverse comments were received, the direct final rule would become final on the date noted above. The NRC did not receive any comments that warranted withdrawal of the direct final rule. Therefore, this rule will become effective as scheduled.

Dated at Rockville, Maryland, this 20th day of December 2001.
For the Nuclear Regulatory Commission.
Michael T. Lesar,
Chief, Rules and Directives Branch, Division of Administrative Services, Office of Administration.

[FR Doc. 01-31923 Filed 12-27-01; 8:45 am]

BILLING CODE 7590-01-P